DEPARTMENT OF COMMERCE

National Oceanic and Atmospheric Administration

[RTID 0648-XA278]

Caribbean Fishery Management Council; Public Meeting

AGENCY: National Marine Fisheries Service (NMFS), National Oceanic and Atmospheric Administration (NOAA), Commerce.

ACTION: Notice of a public virtual meeting.

SUMMARY: The Caribbean Fishery Management Council's (Council) Outreach and Education Advisory Panel (OEAP) will hold a two-day public virtual meeting to address the items contained in the tentative agenda included in the SUPPLEMENTARY INFORMATION.

DATES: The OEAP public virtual meeting will be held on August 4, 2020, from 12 p.m. to 3 p.m., and August 5, 2020, from 12 p.m. to 3 p.m. All meetings will be at Eastern Day Time.

ADDRESSES: You may join the OEAP public virtual meeting (via GoToMeeting) from a computer, tablet or smartphone by entering the following address:

Via Go To Meeting

August 4-5, 2020

Please join the meeting from your computer, tablet or smartphone. https://global.gotomeeting.com/join/431849525. You can also dial in using your phone. United States: +1 (646) 749-3112, Access Code: 431-849-525. You may download the app now and be ready for when the meeting starts: https://global.gotomeeting.com/install/431849525.

Note: If GoToMeeting crashes, the meeting will be continued using Google Meet.

Via Google Meet

August 4, 2020

Join with Goggle Meet, meet.google.com/jzt-csus-hqn.

August 5, 2020

Join with Google Meet, meet.google.com/ezh-omig-bpz.

FOR FURTHER INFORMATION CONTACT: Miguel Rolón, Executive Director, Caribbean Fishery Management Council, 270 Muñoz Rivera Avenue, Suite 401, San Juan, Puerto Rico 00918-1903, telephone: (787) 398-3717.

SUPPLEMENTARY INFORMATION: The following items included in the tentative agenda will be discussed:

August 4, 2020, 12 p.m.-1 p.m.

—Call to Order

—Adoption of Agenda

—OEAP Chairperson's Report

—Updates:

—CFMC Arrangements for Virtual Meetings

—U.S.V.I. Activities

—Fishery Ecosystem Based Management Plan (FEBMP)

—Stakeholders Survey by Pew Charitable Trust

August 4, 2020, 1 p.m.-1:10 p.m.

—Break

August 4, 2020, 1:10 p.m.-3 p.m.

—Responsible Seafood Consumption Campaign

—Recipe Cookbook for Puerto Rico and the U.S. Virgin Islands

—Distribution and Presentation of the Book: “Marine Fisheries Ecosystem of Puerto Rico and the U.S. Virgin Islands” to Fishers and General Public

August 5, 2020, 12 p.m.-1 p.m.

—Outreach and Education Products to Highlight Women's Contribution to Fisheries in Puerto Rico and the U.S. Virgin Islands

August 5, 2020, 1 p.m.-1:10 p.m.

—Break

August 5, 2020, 1:10 p.m.-3 p.m.

—Island-Based Fishery Management Plans (IBFMP) Comment Period

—2021 Calendar

—CFMC Facebook, Instagram and YouTube Communications with Stakeholders

—Other Business

The order of business may be adjusted as necessary to accommodate the completion of agenda items. The meeting will begin on August 4, 2020, at 12 p.m. EST, and will end on August 5, 2020, at 3 p.m. EST. Other than the start time, interested parties should be aware that discussions may start earlier or later than indicated, at the discretion of the Chair. In addition, the meeting may be completed prior to the date established in this notice.

Special Accommodations

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: July 13, 2020.
Tracey L. Thompson,
Acting Deputy Director, Office of Sustainable Fisheries, National Marine Fisheries Service.

[FR Doc. 2020-15413 Filed 7-15-20; 8:45 am]

BILLING CODE 3510-22-P